DEPARTMENT OF TRANSPORTATION

Federal Aviation Administration

14 CFR Part 97

[Docket No. 30740; Amdt. No. 3388]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 9, 2010. The compliance date for each SIAP, associated Takeoff Minimums, and ODP is specified in the amendatory provisions.

The incorporation by reference of certain publications listed in the regulations is approved by the Director of the Federal Register as of September 9, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR part 97

Air traffic control, Airports, Incorporation by reference, and Navigation (air).

Issued in Washington, DC, on August 20, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 23 SEP 2010

Birmingham, AL, Birmingham-Shuttlesworth Intl, RNAV (GPS) Y RWY 6, Amdt 1A

Birmingham, AL, Birmingham-Shuttlesworth Intl, RNAV (GPS) Y RWY 24, Amdt 2A

Birmingham, AL, Birmingham-Shuttlesworth Intl, RNAV (RNP) Z RWY 6, Orig

Birmingham, AL, Birmingham-Shuttlesworth Intl, RNAV (RNP) Z RWY 24, Orig

Courtland, AL, Courtland, RNAV (GPS) RWY 13, Amdt 1

Courtland, AL, Courtland, RNAV (GPS) RWY 31, Amdt 1

Courtland, AL, Courtland, Takeoff Minimum and Obstacle DP, Amdt 1

Courtland, AL, Courtland, VOR RWY 13, Amdt 1

Fort Payne, AL, Isbell Field, GPS RWY 4, Orig, CANCELLED

Fort Payne, AL, Isbell Field, GPS RWY 22, Orig, CANCELLED

Fort Payne, AL, Isbell Field, NDB-A, Amdt 1

Fort Payne, AL, Isbell Field, RNAV (GPS) RWY 4, Orig

Fort Payne, AL, Isbell Field, RNAV (GPS) Y RWY 22, Orig

Fort Payne, AL, Isbell Field, RNAV (GPS) Z RWY 22, Orig

Fort Payne, AL, Isbell Field, Takeoff Minimum and Obstacle DP, Amdt 1

Flagstaff, AZ, Flagstaff Pulliam, RNAV (GPS)-B, Orig

Flagstaff, AZ, Flagstaff Pulliam, VOR-A, Amdt 4

Hawthorne, CA, Jack Northrop Field/Hawthorne Muni, LOC RWY 25, Amdt 11

Hawthorne, CA, Jack Northrop Field/Hawthorne Muni, VOR RWY 25, Amdt 16

Little River, CA, Little River, RNAV (GPS) RWY 29, Orig

Oakland, CA, Metropolitan Oakland Intl, ILS OR LOC RWY 11, Amdt 6

Oakland, CA, Metropolitan Oakland Intl, RNAV (GPS) Y RWY 11, Amdt 1

Oakland, CA, Metropolitan Oakland Intl, RNAV (GPS) Y RWY 27L, Amdt 2

Oakland, CA, Metropolitan Oakland Intl, RNAV (GPS) Y RWY 27R, Amdt 1

Oakland, CA, Metropolitan Oakland Intl, RNAV (GPS) Y RWY 29, Amdt 1

Oakland, CA, Metropolitan Oakland Intl, RNAV (RNP) Z RWY 11, Orig

Oakland, CA, Metropolitan Oakland Intl, RNAV (RNP) Z RWY 27L, Orig

Oakland, CA, Metropolitan Oakland Intl, RNAV (RNP) Z RWY 27R, Orig

Oakland, CA, Metropolitan Oakland Intl, RNAV (RNP) Z RWY 29, Orig

San Jose, CA, Norman Y. Mineta San Jose Intl, RNAV (GPS) Y RWY 12L, Amdt 2

San Jose, CA, Norman Y. Mineta San Jose Intl, RNAV (GPS) Y RWY 30R, Amdt 2

San Jose, CA, Norman Y. Mineta San Jose Intl, RNAV (RNP) Z RWY 12L, Orig

San Jose, CA, Norman Y. Mineta San Jose Intl, RNAV (RNP) Z RWY 12R, Amdt 1

San Jose, CA, Norman Y. Mineta San Jose Intl, RNAV (RNP) Z RWY 30L, Amdt 1

San Jose, CA, Norman Y. Mineta San Jose Intl, RNAV (RNP) Z RWY 30R, Orig

Colorado Springs, CO, City of Colorado Springs Muni, RNAV (GPS) Y RWY 17R, Amdt 2

Colorado Springs, CO, City of Colorado Springs Muni, RNAV (RNP) Z RWY 17L, Orig

Colorado Springs, CO, City of Colorado Springs Muni, RNAV (RNP) Z RWY 17R, Orig

Colorado Springs, CO, City of Colorado Springs Muni, RNAV (RNP) Z RWY 35L, Orig

Colorado Springs, CO, City of Colorado Springs Muni, RNAV (RNP) Z RWY 35R, Orig

Denver, CO, Denver Intl, ILS OR LOC RWY 34L, ILS RWY 34L (CAT II), ILS RWY 34L (CAT III), Amdt 1

Denver, CO, Denver Intl, ILS OR LOC RWY 34R, ILS RWY 34R (CAT II), ILS RWY 34R (CAT III), Amdt 2

Denver, CO, Denver Intl, ILS OR LOC RWY 35L, ILS RWY 35L (CAT II), ILS RWY 35L (CAT III), Amdt 4

Denver, CO, Denver Intl, ILS OR LOC RWY 35R, ILS RWY 35R (CAT II), ILS RWY 35R (CAT III), Amdt 2

Denver, CO, Denver Intl, RNAV (GPS) RWY 34L, Amdt 1

Denver, CO, Denver Intl, RNAV (GPS) RWY 34R, Amdt 1

Denver, CO, Denver Intl, RNAV (GPS) RWY 35L, Amdt 1

Denver, CO, Denver Intl, RNAV (GPS) RWY 35R, Amdt 1

Fort Lauderdale, FL, Fort Lauderdale Executive, RNAV (GPS) RWY 8, Amdt 1

Fort Lauderdale, FL, Fort Lauderdale Executive, RNAV (GPS) RWY 26, Amdt 1

McRae, GA, Telfair-Wheeler, NDB RWY 21, Amdt 10

Pine Mountain, GA, Harris County, RNAV (GPS) RWY 9, Orig

Pine Mountain, GA, Harris County, VOR-A, Amdt 5

Council Bluffs, IA, Council Bluffs Muni, ILS OR LOC RWY 36, Orig

Jefferson, IA, Jefferson Muni, GPS RWY 14, Orig-A, CANCELLED

Jefferson, IA, Jefferson Muni, GPS RWY 32, Orig-A, CANCELLED

Jefferson, IA, Jefferson Muni, NDB RWY 32, Amdt 6

Jefferson, IA, Jefferson Muni, RNAV (GPS) RWY 14, Orig

Jefferson, IA, Jefferson Muni, RNAV (GPS) RWY 32, Orig

Idaho Falls, ID, Idaho Falls Rgnl, RNAV (GPS) Y RWY 2, Amdt 1

Idaho Falls, ID, Idaho Falls Rgnl, RNAV (GPS) Y RWY 20, Amdt 1

Idaho Falls, ID, Idaho Falls Rgnl, RNAV (RNP) Z RWY 2, Orig

Idaho Falls, ID, Idaho Falls Rgnl, RNAV (RNP) Z RWY 20, Orig

Alton/St Louis, IL, St Louis Rgnl, Takeoff Minimums and Obstacle DP, Amdt 1

Decatur, IL, Decatur, VOR RWY 36, Amdt 16

Peru, IL, Illinois Valley Rgnl-Walter A Duncan Field, RNAV (GPS) RWY 18, Orig-A

Peru, IL, Illinois Valley Rgnl-Walter A Duncan Field, RNAV (GPS) RWY 36, Orig-A

Sullivan, IN, Sullivan County, GPS RWY 18, Orig, CANCELLED

Sullivan, IN, Sullivan County, GPS RWY 36, Amdt 1, CANCELLED

Sullivan, IN, Sullivan County, RNAV (GPS) RWY 18, Orig

Sullivan, IN, Sullivan County, RNAV (GPS) RWY 36, Orig

Warsaw, IN, Warsaw Muni, ILS OR LOC/DME RWY 27, Amdt 1

Warsaw, IN, Warsaw Muni, RNAV (GPS) RWY 9, Orig

Warsaw, IN, Warsaw Muni, RNAV (GPS) RWY 27, Orig

Warsaw, IN, Warsaw Muni, Takeoff Minimums and Obstacle DP, Amdt 2

Warsaw, IN, Warsaw Muni, VOR RWY 9, Amdt 6

Warsaw, IN, Warsaw Muni, VOR RWY 27, Amdt 7

Syracuse, KS, Syracuse-Hamilton County Muni, RNAV (GPS) RWY 18, Orig

Syracuse, KS, Syracuse-Hamilton County Muni, RNAV (GPS) RWY 36, Orig

Syracuse, KS, Syracuse-Hamilton County Muni, Takeoff Minimums and

Obstacle DP, Orig

New Orleans, LA, Louis Armstrong New Orleans Intl, RNAV (GPS) Y RWY 28, Amdt 2

Faribault, MN, Faribault Muni, Takeoff Minimums and Obstacle DP, Orig

Minneapolis, MN, Airlake, RNAV (GPS) RWY 12, Orig

St. Louis, MO, Lambert-St. Louis Intl, ILS OR LOC RWY 12L, ILS RWY 12L (CAT II), ILS RWY 12L (CAT III), Amdt 6

St. Louis, MO, Lambert-St. Louis Intl, ILS OR LOC RWY 30R, ILS RWY 30R (CAT II), ILS RWY 30R (CAT III), Amdt 10

St. Louis, MO, Lambert-St. Louis Intl, ILS PRM RWY 12L, ILS PRM RWY 12L (CAT II); ILS PRM RWY 12L (CAT III), (Simultaneous Close Parallel), Amdt 1

St. Louis, MO, Lambert-St. Louis Intl, Takeoff Minimums and Obstacle DP, Amdt 2

Indianola, MS, Indianola Muni, RNAV (GPS) RWY 18, Amdt 1

Indianola, MS, Indianola Muni, RNAV (GPS) RWY 36, Amdt 1

Indianola, MS, Indianola Muni, Takeoff Minimums and Obstacle DP, Amdt 1

West Yellowstone, MT, Yellowstone, RNAV (GPS) RWY 1, Orig

West Yellowstone, MT, Yellowstone, RNAV (GPS) RWY 19, Orig

Beaufort, NC, Michael J. Smith Field, LOC RWY 26, Amdt 2

Beaufort, NC, Michael J. Smith Field, RNAV (GPS) RWY 21, Amdt 1

Beaufort, NC, Michael J. Smith Field, RNAV (GPS) RWY 26, Amdt 1

Smithfield, NC, Johnston County, RNAV (GPS) RWY 3, Orig-A

Harvey, ND, Harvey Muni, GPS RWY 11, Orig, CANCELLED

Harvey, ND, Harvey Muni, GPS RWY 29, Orig, CANCELLED

Harvey, ND, Harvey Muni, RNAV (GPS) RWY 11, Orig

Harvey, ND, Harvey Muni, RNAV (GPS) RWY 29, Orig

Harvey, ND, Harvey Muni, Takeoff Minimums and Obstacle DP, Orig

Hamilton, NY, Hamilton Muni, RNAV (GPS) Y RWY 17, Orig

Hamilton, NY, Hamilton Muni, RNAV (GPS) Z RWY 17, Orig

White Plains, NY, Westchester County, COPTER ILS OR LOC/DME RWY 16, Orig-E

White Plains, NY, Westchester County, ILS OR LOC RWY 16, Amdt 23

White Plains, NY, Westchester County, ILS OR LOC RWY 34, Amdt 4

White Plains, NY, Westchester County, NDB RWY 16, Amdt 21B

White Plains, NY, Westchester County, RNAV (GPS) Y RWY 16, Amdt 1

White Plains, NY, Westchester County, RNAV (GPS) Y RWY 34, Amdt 3

White Plains, NY, Westchester County, RNAV (RNP) Z RWY 16, Orig

White Plains, NY, Westchester County, RNAV (RNP) Z RWY 34, Orig

Dayton, OH, James M Cox Dayton Intl, ILS OR LOC RWY 24R, Amdt 9

Frederick, OK, Frederick Rgnl, GPS RWY 35L, Amdt 1, CANCELLED

Frederick, OK, Frederick Rgnl, RNAV (GPS) RWY 35, Orig

Portland, OR, Portland Intl, ILS OR LOC RWY 10L, Amdt 3

Portland, OR, Portland Intl, ILS OR LOC RWY 10R, ILS RWY 10R (CAT II), ILS RWY 10R (CAT III), Amdt 33

Portland, OR, Portland Intl, ILS OR LOC RWY 28L, Amdt 2

Portland, OR, Portland Intl, ILS OR LOC RWY 28R, Amdt 14

Portland, OR, Portland Intl, LOC/DME RWY 21, Amdt 8

Portland, OR, Portland Intl, RNAV (GPS) RWY 10L, Amdt 1

Portland, OR, Portland Intl, RNAV (GPS) RWY 10R, Amdt 1

Portland, OR, Portland Intl, RNAV (GPS) RWY 28L, Amdt 1

Portland, OR, Portland Intl, RNAV (GPS) RWY 28R, Amdt 1

Portland, OR, Portland Intl, Takeoff Minimums and Obstacle DP, Amdt 7

Portland, OR, Portland Intl, VOR/DME RWY 21, Amdt 1

North Myrtle Beach, SC, Grand Strand, ILS OR LOC/DME RWY 23, Amdt 11

North Myrtle Beach, SC, Grand Strand, VOR RWY 5, Amdt 22

North Myrtle Beach, SC, Grand Strand, VOR RWY 23, Amdt 20

Huntingdon, TN, Carroll County, GPS RWY 19, Orig, CANCELLED

Huntingdon, TN, Carroll County, NDB RWY 1, Amdt 2

Huntingdon, TN, Carroll County, RNAV (GPS) RWY 1, Orig

Huntingdon, TN, Carroll County, RNAV (GPS) RWY 19, Orig

Lewisburg, TN, Ellington, GPS RWY 20, Orig, CANCELLED

Lewisburg, TN, Ellington, NDB RWY 20, Amdt 5

Lewisburg, TN, Ellington, RNAV (GPS) RWY 2, Orig

Lewisburg, TN, Ellington, RNAV (GPS) RWY 20, Orig

Corpus Christi, TX, Corpus Christi Intl, RNAV (RNP) Z RWY 13, Orig

Corpus Christi, TX, Corpus Christi Intl, RNAV (RNP) Z RWY 31, Orig

Corpus Christi, TX, Corpus Christi Intl, RNAV (RNP) Z RWY 35, Orig

Eagle Lake, TX, Eagle Lake, RNAV (GPS) RWY 17, Orig-A

Temple, TX, Draughon-Miller Central Texas Rgnl, ILS OR LOC RWY 15, Amdt 12

Jonesville, VA, Lee County, RNAV (GPS) RWY 25, Amdt 1

Martinsville, VA, Blue Ridge, RNAV (GPS) RWY 12, Amdt 1

Martinsville, VA, Blue Ridge, RNAV (GPS) RWY 30, Amdt 2

On August 2, 2010 (75 FR 45049) the FAA published an Amendment in Docket No. 30736, Amdt 3384 to Part 97 of the Federal Aviation Regulations under section 97.23 and 97.33. The following entry effective 26 August 2010 is hereby rescinded:

Troy, AL, Troy Muni, Radar-1, Amdt 9

On August 2, 2010 (75 FR 45049) the FAA published an Amendment in Docket No. 30736, Amdt 3384 to Part 97 of the Federal Aviation Regulations under section 97.23 and 97.33. The following entries effective 23 September 2010 are hereby rescinded:

Austin, TX, Austin Executive, RNAV (GPS) RWY 13, Orig

Austin, TX, Austin Executive, RNAV (GPS) RWY 31, Orig

Austin, TX, Austin Executive, Takeoff Minimums and Obstacle DP, Orig

Bryce, UT, Bryce Canyon, BRYCE ONE Graphic Obstacle DP

Bryce, UT, Bryce Canyon, RNAV (GPS) RWY 3, Orig

Bryce, UT, Bryce Canyon, RNAV (GPS) RWY 21, Orig

Bryce, UT, Bryce Canyon, Takeoff Minimums and Obstacle DP, Orig

[FR Doc. 2010-21909 Filed 9-8-10; 8:45 am]

BILLING CODE 4910-13-P